CONSUMER PRODUCT SAFETY COMMISSION

16 CFR Part 1281

[Docket No. CPSC-2006-0057]

Safety Standard for Portable Generators

AGENCY: Consumer Product Safety Commission.

ACTION: Announcement of opportunity for oral presentation of comments.

SUMMARY: The Consumer Product Safety Commission (Commission or CPSC) is providing an opportunity for interested parties to present oral comments on the supplemental notice of proposed rulemaking (SNPR) the Commission issued regarding a safety standard for portable generators. Any oral comments will become part of the rulemaking record.

DATES: The hybrid meeting will begin at 10 a.m. Eastern time on June 28, 2022. Any individual interested in making an oral presentation must submit a request to make an oral presentation to the Office of the Secretary, along with the written text of the oral presentation, and indicate whether the presentation will be in person or via webinar. Such requests must be received no later than 5 p.m. Eastern time on June 20, 2023. All attendees planning to present virtually must pre-register for the webinar no later than 5 p.m. Eastern time on June 20, 2023, at the website in ADDRESSES.

ADDRESSES: The hearing will be held in the Commission Hearing Room, 4th floor of the Bethesda Towers Building, 4330 East-West Highway, Bethesda, MD 20814, and via webinar. Attendance is free of charge. Submit requests to make oral presentations and provide the written text of oral presentations to the Office of the Secretary, with the caption, “Portable Generator SNPR; Oral Presentation,” by email to cpsc-os@cpsc.gov, or by mail to the Office of the Secretary, Consumer Product Safety Commission, 4330 East-West Highway, Bethesda, MD 20814.

All attendees planning to present virtually must pre-register for the webinar online at: https://cpsc.webex.com/weblink/register/r58a4afc53a820ea44ebc6ff0c246c95f, no later than 5 p.m. Eastern time on June 20, 2023. After registering, presenters will receive a confirmation email containing information about joining the webinar. All other individuals who wish to attend the meeting via webinar should register using the same internet link before the start of the hearing. Individuals who wish to attend the meeting in-person, but not make any oral presentation, need not register.

FOR FURTHER INFORMATION CONTACT: For information about the subject matter of this hearing, contact Janet Buyer, Project Manager, Consumer Product Safety Commission, 5 Research Place, Rockville, MD 20850; 301-987-2293; email: jbuyer@cpsc.gov. For information about the hearing procedure to make an oral presentation, contact Alberta E. Mills, Office of the Secretary, Consumer Product Safety Commission, 4330 East-West Highway, Bethesda, MD 20814; 301-504-7479; cpsc-os@cpsc.gov.

SUPPLEMENTARY INFORMATION:

I. Background ¹

¹ The Commission voted 4-0 to publish this document.

On April 20, 2023, the Commission published an SNPR in the Federal Register, proposing to issue a modified safety standard for portable generators under the Consumer Product Safety Act (CPSA; 15 U.S.C. 2051-2089), and seeking written comments. 88 FR 24346. The SNPR seeks to address the unreasonable risk of injury and death associated with acute carbon monoxide (CO) poisoning from portable generators. The proposed rule limits CO emissions from portable generators and requires generators to shut off when specified emission levels are reached. The SNPR is available at: www.regulations.gov/document/CPSC-2006-0057-0118, and CPSC staff's briefing package for the SNPR is available at: www.cpsc.gov/s3fs-public/SupplementalNoticeofProposedRulemakingSNPRSafetyStandardforPortableGenerators.pdf?VersionId=zxwp.NpJj8nNCxLf7CIp3zMVqLB1MrgE.

II. The Public Hearing

The Administrative Procedure Act (5 U.S.C. 551-562) and section 9 of the CPSA require the Commission to provide interested parties with an opportunity to submit “written data, views, or arguments” regarding a proposed rule. 5 U.S.C. 553(c); see 15 U.S.C. 2058(d)(2). The SNPR invited such written comments. In addition, section 9 of the CPSA requires the Commission to provide interested parties “an opportunity for oral presentation of data, views, or arguments.” 15 U.S.C. 2058(d)(2). The Commission must keep a transcript of such oral presentations. Id. The Commission received requests to present and, in accordance with the requirement in section 9 of the CPSA, the Commission is providing a forum for oral presentations concerning the proposed standard for portable generators.

To request the opportunity to make an oral presentation, see the information under the DATES and ADDRESSES sections of this document. Participants should limit their presentations to approximately 10 minutes, excluding time for questioning by the Commissioners or CPSC staff. To avoid duplicate presentations, groups or participants with substantially similar comments should designate a spokesperson, and the Commission reserves the right to limit presentation times or impose further restrictions, as necessary.

Alberta E. Mills,
Secretary, Consumer Product Safety Commission.

[FR Doc. 2023-11983 Filed 6-6-23; 8:45 am]

BILLING CODE 6355-01-P